DEPARTMENT OF THE INTERIOR

Office of the Secretary

Notice of Proposed Information Collection

AGENCY: Office of the Secretary, Interior.

ACTION: Notice and Request of Comments.

SUMMARY: In compliance with the Paperwork Reduction Act of 1995, the Department of the Interior, Office of the Secretary is announcing its intention to request re-approval for the collection of information for the DI-Form 381, Claim for Relocation Payments—Residential and DI-Form 382, Claim for Relocation Payments-Nonresidential.

DATES: Comments on the proposed information collection must be received by October 4, 2002, to be assured of consideration.

ADDRESSES: Comments may be mailed to John Moresko, Department of the Interior, Office of Acquisition and Property Management, 1849 C Street NW., Mail Stop 5512, Washington, DC 20240. Comments may also be submitted electronically to john_moresko@ios.doi.gov.

FOR FURTHER INFORMATION CONTACT: To request a copy of the information collection request, explanatory information and related forms, contact John Moresko at (202) 208-5704.

SUPPLEMENTARY INFORMATION: The Office of Management and Budget (OMB) regulations at 5 CFR 1320, which implements the Paperwork Reduction Act of 1995 (Pub. L. 104-13), require that interested members of the public and affected agencies have an opportunity to comment on information collection and recordkeeping activities (see 5 CFR 1320.8(d)). This notice identifies an information collection activity that the Office of the Secretary will be submitting to OMB for extension or re-approval.

Form DI-381 and Form DI-382 were created because of the amendments to the Uniform Relocation Assistance and Real Property Acquisition Policies Act of 1970 (Act) made by the Uniform Relocation Act Amendments of 1987, Title IV of the Surface Transportation and Uniform Relocation Assistance Act of 1987, Public Law 100-17.

The Office of the Secretary will request a 3-year term of approval for this information collection activity.

Comments are invited on: (1) The need for the collection of information for the performance of the function of the agency; (2) the accuracy of the agency's burden estimates; (3) ways to enhance the quality, utility, and clarity of the information collection; and (4) ways to minimize the information collection burden on respondents, such as use of automated means of collection of the information. A summary of the public comments will accompany the Office of the Secretary's submission of the information collection request to OMB.

This notice provides the public with 60 days in which to comment on the following information collection activity:

Title: Claim For Relocation Payments-Residential; Claim for Relocation Payments-Nonresidential.

OMB Control Number: 1084-0010.

Summary: The information required is obtained through application made by displaced person(s) or business(es) to the funding agency for determination as to the specific amount of monies due under the law.

Bureau Form Number: DI-381, DI-382.

Frequency of Collection: On occasion.

Description of Respondents: Individuals and businesses who are displaced because of Federal acquisitions of their real property.

Total Annual Response: 200.

Total Annual Burden Hours: 88 hours.

Dated: July 27, 2002.
Debra E. Sonderman,
Director, Office of Acquisition and Property Management.

[FR Doc. 02-19611 Filed 8-2-02; 8:45 am]

BILLING CODE 4310-RF-M